DEPARTMENT OF HEALTH AND HUMAN SERVICES

Administration for Children and Families

Proposed Information Collection Activity; United States Repatriation Program Forms (Office of Management and Budget#: 0970-0474)

AGENCY: Office of Human Services Emergency Preparedness and Response, Administration for Children and Families, United States Department of Health and Human Services.

ACTION: Request for public comments.

SUMMARY: The Administration for Children and Families (ACF) is proposing to collect information to support state planning, training, and exercise activities and training and technical assistance for the United States (U.S.) Repatriation Program through six new forms in addition to the currently approved forms.

DATES: Comments due within 60 days of publication. In compliance with the requirements of the Paperwork Reduction Act of 1995, ACF is soliciting public comment on the specific aspects of the information collection described above.

ADDRESSES: You can obtain copies of the proposed collection of information and submit comments by emailing infocollection@acf.hhs.gov. Identify all requests by the title of the information collection.

SUPPLEMENTARY INFORMATION:

Description: The purpose of the U.S. Repatriation Program (Program) is to provide temporary assistance to eligible U.S. citizens and their dependents (repatriates) returned by the Department of State from a foreign country because of destitution, illness, war, threat of war, or a similar crisis, and who are without available resources, or (2) mental illness. Temporary assistance is provided upon their arrival in the U.S. and is available initially for up to 90 days from a repatriate's date of arrival in the U.S. Temporary assistance is provided in the form of a service loan and is repayable to the U.S. Government.

Temporary assistance is defined in 42 U.S.C. 1313(c) as money payments, medical care, temporary lodging, transportation, and other goods and services necessary for the health or welfare of individuals, including guidance, counseling, and other welfare services provided to them within the U.S. upon their arrival in the U.S. Other goods and services may include clothes, food, assistance with obtaining identification (driver's license, birth certificate), child care, and translation services.

The ACF Office of Human Services Emergency Preparedness and Response (OHSEPR), at the U.S. Department of Health and Human Services (HHS), administers the U.S. Repatriation Program.

OHSEPR developed new forms to support the planning, training, and exercise cooperative agreements with states and the new training and technical assistance center.

The following is a description of the forms and the proposed revisions:

Project Narrative

The purpose of this form is for an overall description of planned activities for the entire project period (e.g., years 1, 2, and 3) regarding emergency repatriation planning, training, and exercises.

Annual Workplan

The purpose of this form is for an annual workplan for each federal fiscal year for emergency repatriation planning, training, and exercises.

Budget and Budget Narrative

This form is to provide a budget and budget narrative for planned activities for each annual workplan regarding planning, training, and exercises for repatriation.

Repatriation State Contact List

The purpose is to ensure current and accurate points-of-contact within states and territories for the U.S. Repatriation Program routine and emergency operations.

Repatriation Training and Technical Assistance Request

States, territories, counties, and local service providers may use this form to request training and technical assistance on the U.S. Repatriation Program via a web portal account.

Post-Training Survey

The purpose of this survey is to receive feedback on trainings to improve the support for and customer experience of states, territories, and local service providers supporting the U.S. Repatriation Program.

Respondents: States, territories, local social service providers, administrative staff.

Annual Burden Estimates
Instrument | Total number of respondents | Total number of responses per respondent | Average burden hours per response | Total burden hours | Annual burden hours
Project Narrative | 54 | 1 | .5 | 27 | 27
Annual Workplan | 54 | 1 | .5 | 27 | 27
Budget and Budget Narrative | 54 | 1 | 1 | 54 | 54
Repatriation State Contact List | 200 | 1 | .5 | 100 | 100
Repatriation Training and Technical Assistance Request | 250 | 2 | .2 | 100 | 100
Post-Training Survey | 250 | 2 | .2 | 100 | 100

Estimated Total Annual Burden Hours: 408.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: 42 U.S.C. 1313, 24 U.S.C. 321-329.

John M. Sweet, Jr,
ACF/OPRE Certifying Officer.

[FR Doc. 2023-05196 Filed 3-13-23; 8:45 am]

BILLING CODE 4184-PL-P